DEPARTMENT OF DEFENSE

Defense Acquisition Regulations System

48 CFR Parts 204, 236, and 252

Defense Federal Acquisition Regulation Supplement; Technical Amendments

AGENCY: Defense Acquisition Regulations System, Department of Defense (DoD).

ACTION: Final rule.

SUMMARY: DoD is making technical amendments to the Defense Federal Acquisition Regulation Supplement (DFARS) to update an organization name and reference numbers.

DATES: Effective Date: September 8, 2006.

FOR FURTHER INFORMATION CONTACT: Ms. Michele Peterson, Defense Acquisition Regulations System, OUSD(AT&L)DPAP(DARS), IMD 3C132, 3062 Defense Pentagon, Washington, DC 20301-3062. Telephone (703) 602-0311; facsimile (703) 602-0350.

SUPPLEMENTARY INFORMATION: This final rule amends DFARS text as follows:

• Section 204.805. Reflects the change in name of the “General Accounting Office” to the “Government Accountability Office”.

• Section 236.602-1. Updates a reference to a paragraph of the Federal Acquisition Regulation.

• Section 252.225-7023. Updates a DFARS reference within a contract clause.

List of Subjects in 48 CFR Parts 204, 236, and 252

Government procurement.

Michele P. Peterson,
Editor, Defense Acquisition Regulations System.

Therefore, 48 CFR parts 204, 236, and 252 are amended as follows:

1. The authority citation for 48 CFR parts 204, 236, and 252 continues to read as follows:

Authority: 41 U.S.C. 421 and 48 CFR Chapter 1.

PART 204—ADMINISTRATIVE MATTERS

204.805 [Amended]

2. Section 204.805 is amended in paragraph (2), in the second sentence, by removing “General Accounting” and adding in its place “Government Accountability”.

PART 236—CONSTRUCTION AND ARCHITECT-ENGINEER CONTRACTS

236.602-1 [Amended]

3. Section 236.602-1 is amended in paragraph (a), in the first sentence, by removing “5.205(c)” and adding in its place “5.205(d)”.

PART 252—SOLICITATION PROVISIONS AND CONTRACT CLAUSES

252.225-7023 [Amended]

4. Section 252.225-7023 is amended as follows:

a. By revising the clause date to read “(SEP 2006)”; and

b. In paragraph (b)(2), by removing “225.7020-3” and adding in its place “225.7010-3”.

[FR Doc. E6-14906 Filed 9-7-06; 8:45 am]

BILLING CODE 5001-08-P